NATIONAL SCIENCE FOUNDATION

Public Affairs Advisory Group; Notice of Meeting

In accordance with the Federal Advisory Committee Act (Pub. L. 92-463, as amended), the National Science Foundation announces the following meeting:

Name: Public Affairs Advisory Group (5292).

Date/Time: June 27, 2000, 6 p.m.-9 p.m.

Place: National Science Foundation, 4201 Wilson Boulevard, Arlington, VA. (A specific room number has not been determined, but may be obtained by calling the contact person listed below before the meeting.)

Type of Meeting: Open.

Contact Person: Mr. Michael Sieverts, Acting Director, Office of Legislative and Public Affairs, Room 1245, National Science Foundation, 4201 Wilson Boulevard, Arlington, VA 22230, (703) 306-1070.

Purpose of Meeting: To provide advice and recommendations concerning NSF science and engineering outreach activities.

Agenda: The committee will be considering the following:

(1) The case for the importance of basic research;

(2) Effective ways to communicate the importance of basic research to various audiences; and

(3) How NSF can increase public appreciation of science and engineering research and education.

Meeting Minutes: May be obtained from the contact person listed above.

Dated: June 5, 2000.
Karen J. York,
Committee Management Officer.

[FR Doc. 00-14589 Filed 6-8-00; 8:45 am]

BILLING CODE 7555-01-M